DEPARTMENT OF THE INTERIOR

Bureau of Land Management

[UT-910-06-1210-PH-24-1A]

Call for Nominations for Utah's Resource Advisory Council Vacancy

AGENCY: Bureau of Land Management, Department of the Interior.

ACTION: Notice of Call for Nominations for the Utah Resource Advisory Council.

SUMMARY: The Federal Land Policy and Management Act (FLPMA) (43 U.S.C. 1730) directs the Secretary of the Interior to involve the public in planning and issues related to management of lands administered by Bureau of Land Management (BLM). Section 309 of FLPMA authorizes the Secretary to establish 10 to 15 member citizen-based advisory councils, whose operation shall be consistent with the requirements of the Federal Advisory Committee Act (FACA). As required by FACA, Resource Advisory Council (RAC) membership must be balanced and representative of the various interests concerned with the management of the public lands. The BLM regulations governing RACs are found at 43 CFR part 1784.

The BLM Utah State Office is hosting a call for nominations for a Transportation/Rights-of-Way position on the Utah RAC. Upon appointment, the individual selected to this position will fill the seat until September 20, 2008, the remainder of this position's term.

DATES: BLM will accept public nominations until September 5, 2006. Applicants are requested to submit a completed nomination form and reference letters to the address listed below.

FOR FURTHER INFORMATION CONTACT: Sherry Foot, Special Programs Coordinator, Utah State Office, Bureau of Land Management, 440 West 200 South, Suite 500, Salt Lake City, Utah, 84101; telephone (801) 539-4195.

SUPPLEMENTARY INFORMATION: Individuals may nominate themselves or others. Nominees must be residents of Utah. BLM will evaluate nominees based on their education, training, experience, and their knowledge of the geographical area of the RAC. Nominees should demonstrate a commitment to collaborative resource decision making.

The following must accompany nominations:

• Letters of reference from represented interests or organizations;

• A completed background information nomination form (contact Sherry Foot at (801) 539-4195 to obtain a nomination form); and

• Any other information that highlights the nominee's qualifications.

Dated: May 16, 2006.
John Mehlhoff,
Acting Associate State Director.

[FR Doc. E6-12559 Filed 8-2-06; 8:45 am]

BILLING CODE 4310-$$-P